DEPARTMENT OF VETERANS AFFAIRS

Special Medical Advisory Group, Notice of Meeting

The Department of Veterans Affairs (VA) gives notice under the Federal Advisory Committee Act, 5 U.S.C. App. 2, that the Special Medical Advisory Group will meet on September 1, 2016, at the Department of Veterans Affairs Central Office, 810 Vermont Ave. NW., Conference Room 830, Washington, DC 20420 from 8:00 a.m. to 4:00 p.m. ET. The meeting is open to the public.

The purpose of the Group is to advise the Secretary of Veterans Affairs and the Under Secretary for Health on the care and treatment of Veterans, and other matters pertinent to the Department's Veterans Health Administration (VHA).

The agenda for the meeting will include a review of MyVA Access, the Center for Compassionate Innovation/Fellowship Program, Strategic Partnerships and Rebuilding Relationships.

Thirty (30) minutes will be allocated for receiving oral presentations from the public. Members of the public may submit written statements for review by the Committee to Donna Wells-Taylor, Department of Veterans Affairs, Office of Specialty Care Services (10P4), Veterans Health Administration, 810 Vermont Avenue NW., Washington, DC 20420, or by email at donna.wells-taylor@va.gov.

Because the meeting is being held in a VA Central Office, a photo I.D. is required at the entrance as a part of the clearance process. Therefore, you should plan to arrive 15 minutes before the meeting begins to allow time for the clearance process. Any member of the public wishing to attend the meeting or seeking additional information should contact Ms. Donna Wells-Taylor at (202) 461-1025 or by email.

Dated: June 27, 2016.
Jelessa Burney,
Federal Advisory Committee Management Officer.

[FR Doc. 2016-15576 Filed 6-29-16; 8:45 am]

BILLING CODE 8320-01-P